DEPARTMENT OF TRANSPORTATION

Federal Aviation Administration

14 CFR Part 71

[Docket No. FAA-2012-1051; Airspace Docket No. 12-ASO-39]

Establishment of Class E Airspace; Immokalee-Big Cypress Airfield, FL

AGENCY: Federal Aviation Administration (FAA), DOT.

ACTION: Final rule; correction

SUMMARY: This action makes a correction to the title and airspace descriptor of a final rule published in the Federal Register of May 1, 2013. The title and airspace descriptor are corrected to read Immokalee-Big Cypress Airfield, FL.

DATES: Effective 0901 UTC, June 27, 2013. The Director of the Federal Register approves this incorporation by reference action under title 1, Code of Federal Regulations, part 51, subject to the annual revision of FAA Order 7400.9 and publication of conforming amendments.

FOR FURTHER INFORMATION CONTACT: John Fornito, Operations Support Group, Eastern Service Center, Federal Aviation Administration, P. O. Box 20636, Atlanta, Georgia 30320; telephone (404) 305-6364.

SUPPLEMENTARY INFORMATION:

History

Federal Register document FAA-2012-1051, Airspace Docket No. 12-ASO-39, published May 1, 2013, establishes Class E airspace at Big Cypress Airfield, Immokalee, FL (78 FR 25384). Subsequent to publication, the FAA found that existing controlled airspace already is charted for another airport at Immokalee, FL, with the same descriptor. Since there can only be one Immokalee, FL, the title and airspace descriptor for Big Cypress Airfield is changed from Immokalee, FL, to Immokalee-Big Cypress Airfield, FL. This is a technical change and does not affect the boundaries or operating requirements of the airspace. Class E airspace designations are published in paragraph 6005 of FAA Order 7400.9W, Airspace Designations and Reporting Points, dated August 8, 2012, and effective September 15, 2012, which is incorporated by reference in 14 CFR 71.1. The class E airspace designation listed in this document will be published subsequently in the Order.

Correction to Final Rule

Accordingly, pursuant to the authority delegated to me, on page 25384, column 1, line 7, the title as published in the Federal Register of May 1, 2013 (78 FR 25384) FR Doc. 2013-10214, is corrected to read “. . . Immokalee-Big Cypress, FL”; and in column 3, line 26, the legal description is changed as follows:

ASO FL E5 Immokalee-Big Cypress, FL [Corrected]

Big Cypress Airfield, FL

(Lat. 26°19′34″ N., long. 80°59′17″ W.)

That airspace extending upward from 700 feet above the surface within a 6.7-mile radius of Big Cypress Airfield.

Issued in College Park, Georgia, on May 23, 2013.
Jackson D. Allen,
Acting Manager, Operations Support Group, Eastern Service Center, Air Traffic Organization .

[FR Doc. 2013-13027 Filed 6-5-13; 8:45 am]

BILLING CODE 4910-13-P